DEPARTMENT OF HOUSING AND URBAN DEVELOPMENT

[Docket No. FR-4739-N-16]

Notice of Proposed Information Collection: Emergency Comment Request; HUD's Loss Mitigation Default Counseling Program Demonstration

AGENCY: Office of the Assistant Secretary for Housing-Federal Housing Commissioner, HUD.

ACTION: Notice.

SUMMARY: The proposed information collection requirement described below has been submitted to the Office of Management and Budget (OMB) for emergency review and approval, as required by the Paperwork Reduction Act. The Department is soliciting public comments on the subject proposal.

DATES: June 11, 2002.

ADDRESSES: Interested persons are invited to submit comments regarding this proposal. Comments must be received within seven (7) days from the date of this Notice. Comments should refer to the proposal by name/or OMB approval number (pending) and should be sent to: Joseph F. Lackey, Jr., HUD Desk Officer, Office of Management and Budget, New Executive Office Building, Washington, DC 20503.

FOR FURTHER INFORMATION CONTACT: Wayne Eddins, Reports Management Officer, Department of Housing and Urban Development, 451 Seventh Street, SW., L'Enfant Plaza Building, Room 8003, Washington, DC 20410; e-mail Wayne_Eddins@HUD.gov; telephone (202) 708-2374. This is not a toll-free number. Copies of available documents submitted to OMB may be obtained from Mr. Eddins.

SUPPLEMENTARY INFORMATION: This Notice informs the public that the Department of Housing and Urban Development (HUD) has submitted to OMB, for emergency processing, an information collection package with respect to the documentation method to verify the voucher for reimbursement which will be used in HUD's Loss Mitigation Default Counseling Demonstration Program. Each of the Housing Counseling Agencies (HCAs) that are participating in the Demonstration will be eligible to be reimbursed each time a completed Loss Mitigation package is referred to one of the four lenders participating in the Demonstration. Each referral must be documented by the HCAs through a voucher form. HUD will reimburse the lender for each paid counseling claim. A single response to the information collection requirement would be required per default counseling referral.

HUD's Loss Mitigation Default Counseling Demonstration offers one way to address the HCAs' chronic shortage of default counselors, the Department's need to test the effectiveness of early default intervention, provide counseling on predatory lending avoidance, and increase workouts in high default areas. The necessity for immediate use of new information collection requirements, which includes the use of a voucher form, is a critical factor to helping stabilize defaulted homeowners and reducing claim losses to FHA. HUD is requesting that OMB approves this information collection by June 10, 2002.

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title Of Proposal: HUD's Loss Mitigation Default Counseling Demonstration.

OMB Control Number: 2502—NEW.

Agency Form Numbers: None.

Members Of Affected Public: Four lenders participating in the Demonstration, the HUD approved Housing Counseling Agencies participating in this Demonstration.

Estimation of the Total Numbers of Hours Needed to Prepare the Information Collection Including Number of Respondents, Frequency of Responses, and Hours of Response
Number of respondents | Number of responses per respondent | Frequency of responses | Number of responses | Hours per response | Estimated annual burden (in hours)
*11 | **749 | Monthly | 8,240 | 0.50 | 4,120
*The number of parties: 4 lenders have volunteered to participate in this Demonstration and 7 Housing Counseling Agencies. Each will have dedicated staff assigned to work on this Demonstration.
**The actual burden on respondents varies widely because of the different levels of activity and size of FHA portfolio held by respondents.

Authority: The Paperwork Reduction Act of 1995, 44 U.S.C. Chapter 35, as amended.

Dated: May 29, 2002.
Wayne Eddins,
Departmental Reports Management Officer, Office of the Chief Information Officer.

[FR Doc. 02-13922 Filed 6-3-02; 8:45 am]

BILLING CODE 4210-27-M